DEPARTMENT OF AGRICULTURE

Submission for OMB Review; Comment Request

March 18, 2021.

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by April 22, 2021 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Food and Nutrition Service

Title: Survey of SNAP Employment and Training (E&T) Case Management.

OMB Control Number: 0584-NEW.

Summary of Collection: Section 17 of the Food and Nutrition Act of 2008 provides general legislative authority for the planned data collection. It authorizes the Secretary of Agriculture to enter into contracts with private institutions to undertake research that will help improve the administration and effectiveness of the Supplemental Nutrition Assistance Program (SNAP) in delivering nutrition-related benefits. Under SNAP, States are required to operate an Employment and Training (E&T) program to help participants acquire skills, training, and work experience that lead to employment and greater economic self-sufficiency. Section 4005 of the Agricultural Improvement Act of 2018 (2018 Farm Bill) requires States to provide case management in their SNAP E&T programs by October 1, 2019. Case management involves assessing participants' skills, interests, strengths, and challenges, and using this information to develop an individualized plan to connect E&T participants to programs and activities that best meet their employment needs.

Participants who receive support in their quest to obtain and maintain jobs that pay livable wages may be more likely to engage in program services and progress toward their goals than those who do not receive such support. Studies of case management in Temporary Assistance for Needy Families E&T programs have found that participants who worked with case managers who handled both program eligibility and E&T were more likely to participate in E&T activities, and that team-based case management with integrated services showed promise in increasing participants' employment and earnings.

Need and Use of the Information: The primary purpose of this voluntary, one-time data collection is to gather information on how SNAP E&T programs provide case management (including assessments, participant reimbursements, and other supports). The data collection from this study will help identify lessons learned and best practices that FNS can share with States to implement robust SNAP E&T programs and fulfill the new requirement.

Description of Respondents: Individuals/Households (248), Business-not-for-Profit (50), State, Local, or Tribal Government (268).

Number of Respondents: 570.

Frequency of Responses: Reporting; On occasion.

Total Burden Hours: 555.

Ruth Brown,
Departmental Information Collection Clearance Officer.

[FR Doc. 2021-05937 Filed 3-22-21; 8:45 am]

BILLING CODE 3410-30-P